DEPARTMENT OF HEALTH AND HUMAN SERVICES

Food and Drug Administration

[Docket No. FDA-2023-N-0008]

Request for Nominations for Voting Members for the Genetic Metabolic Diseases Advisory Committee; Amendment of Notice

AGENCY: Food and Drug Administration, HHS.

ACTION: Notice.

SUMMARY: The Food and Drug Administration (FDA) is announcing an amendment to the notice of the request for nominations for voting members excluding consumer and industry representatives, to serve on the Genetic Metabolic Diseases Advisory Committee (the Committee) in the Center for Drug Evaluation and Research. This request for nominations was announced in the Federal Register of December 13, 2023. The amendment is being made to reflect a change in the DATES portion of the document. There are no other changes.

FOR FURTHER INFORMATION CONTACT: Moon Choi, Center for Drug Evaluation and Research, Food and Drug Administration, 10903 New Hampshire Ave., Bldg. 31, Rm. 2417, Silver Spring, MD 20993-0002, 301-796-2894, email: GEMDAC@fda.hhs.gov.

SUPPLEMENTARY INFORMATION: In the Federal Register of December 13, 2023 (88 FR 86337), FDA announced a request for nominations for voting members excluding consumer and industry representatives, to serve on the Genetic Metabolic Diseases Advisory Committee. On page 86337, in the second column, the DATES portion of the document is changed to read as follows:

Nominations received on or before March 12, 2024, will be given first consideration for membership on the Committee. Nominations received after March 12, 2024, will be considered for nomination to the Committee as later vacancies occur.

This notice is issued under the Federal Advisory Committee Act (5 U.S.C. app. 2) and 21 CFR part 14, relating to the advisory committees.

Dated: February 12, 2024.
Lauren K. Roth,
Associate Commissioner for Policy.

[FR Doc. 2024-03302 Filed 2-15-24; 8:45 am]

BILLING CODE 4164-01-P